SMALL BUSINESS ADMINISTRATION

Announcement of 2015 InnovateHER: Innovating for Women Business Challenge

AGENCY: U.S. Small Business Administration (SBA).

ACTION: Notice.

SUMMARY: The U.S. Small Business Administration (SBA) is conducting a Challenge, called InnovateHER, pursuant to the America Competes Act for entrepreneurs to create a product or service that has a measurable impact on the lives of women and families, has the potential for commercialization, and fills a need in the marketplace.

DATES: The initial round of the InnovateHER Challenge will take the form of local competitions that will be run across the country beginning March 1, 2015 and ending no later than March 31, 2015. The host organizations running the local competitions must select and submit one winner from each local competition to SBA, along with a Nomination package, no later than April 1, 2015. Winners will be announced no later than May 8, 2015.

FOR FURTHER INFORMATION CONTACT: Jessica Wager, Office of Entrepreneurial Development, U.S. Small Business Administration, 409 Third Street SW., 6th Floor Washington, DC 20416, (202) 205-7430, womenbusiness@sba.gov.

SUPPLEMENTARY INFORMATION:

1. Subject of Challenge Competition: The SBA is looking for innovative products and services that help impact and empower the lives of women and families. We know that our workforce looks very different from 50 years ago. Women now make up nearly half of the labor force and play a critical role in our nation's economic prosperity. Most children live in households where all parents work. And as our population ages, families are increasingly caring for aging parents while balancing the needs of work and home. As the demands on women and families grow, the need for products and services that address these unique challenges increases. This challenge will provide a platform to fulfill that need.

Contestants must develop a product or service that meets the following competition criteria:

• Has a measurable impact on the lives of women and families (30%);

• Has the potential for commercialization (40%); and

• Fills a need in the marketplace (30%).

2. Eligibility Rules for Participating in the Competition: This Challenge is open only to: (1) Citizens or permanent residents of the United States who are at least eighteen (18) years of age at the time of their submission of an entry (or teams of such individuals); and (2) private entities, such as corporations or other organizations, that are incorporated in and maintain a primary place of business in the United States. Individuals submitting on behalf of corporations, nonprofits, or groups of individuals (such as an academic class or other team) must meet the eligibility requirements for individual contestants. An individual may belong to more than one team submitting an entry in this Challenge. SBA employees are not eligible, nor are Federal entities or Federal employees acting within the scope of their employment. Individuals or organizations that are currently suspended or disbarred by the federal government are not eligible for this competition.

3. Registration Process for Participants: The initial round of the Challenge will take the form of local competitions that will be run across the country during the month of March 2015 by host organizations such as universities, accelerators, clusters, scale-up communities, and SBA Resource Partners. For more information regarding these local competitions, please visit sba.gov/InnovateHER. While these local competitions will be identified as part of the national InnovateHER Challenge and will be conducted in a manner that is consistent with these Competition Rules, they will be administered solely by the local host organizations and will be judged by individuals selected by each host in their sole discretion. At a minimum, however, each application must contain a business plan covering the contestant's proposed product or service and must satisfy the Competition criteria identified by SBA in this notice. Following the completion of the local competitions, each host organization will identify one winner that will advance to the semi-final round of the Challenge. No later than April 1, 2015, each host organization will submit a nomination package containing a business plan and other required information from each semi-finalist to SBA, which will administer the semi-final and final rounds of the Challenge. Selection as a semi-finalist following a local competition is the only means of registering for the Challenge. All nominations will be screened by SBA for eligibility. Contestants cannot submit entries directly to SBA. No prize money will be awarded at the local competition level.

4. Prize for Winners: SBA anticipates that market stimulation cash prizes totaling $30,000 will be awarded to the three highest-rated contestants in the final round of the competition in the following amounts:

• 1st Place—$15,000

• 2nd Place—$10,000

• 3rd Place—$5,000

For winning entries submitted by teams of competitors, prize money will be awarded to the self-identified project leader for distribution to the rest of the team at their discretion and independently from SBA.

5. Process for Host Organizations: Organizations planning to host a competition under this Challenge must send an email to womenbusiness@sba.gov complete with the organization's name, location, address, email address, POC for the competition, and Web site (if applicable) no later than February 27th, 2015. Additionally, each host organization will determine the type of local competition, conducted in a manner that is consistent with these Competition Rules, that will best identify the most innovative and entrepreneurial business ideas, including the type of application that individuals need to prepare in order to compete, and will publicize the competition locally.

Host Organizations must submit the semi-finalist nomination package to SBA at women.business@sba.gov no later than April 1st, 2015. The package must contain the following:

• A single cover page detailing—

(1) The name of the winning individual or team, best contact information including home or business addresses with telephone, Web site (if applicable), and email address;

(2) The host organization's name, place of business, business address and telephone number and email address;

(3) A concise, one-paragraph description of the product or service

• A Business Plan.

• A Statement of Support that explains why the winner of the local competition best satisfied the competition criteria and presented the greatest potential for success (maximum length: 2 pages).

6. Selection of Winners. In the semi-final round of the Challenge, an executive committee composed of SBA personnel will review the semi-finalist nomination packages submitted by the local competition host organizations and select no more than 10 finalists whose products or services, in their sole judgment, best satisfy the competition criteria and present the greatest potential for success.

Each finalist will be offered the opportunity to come to DC during National Small Business Week, May 4-8, 2015, to make a live marketing pitch to a panel of expert judges drawn from the private sector. The panel of judges will select the three finalists whose pitches, in their sole judgment, best satisfy the competition criteria and present the greatest potential for success and rank them in descending order. Finalists will be responsible for covering their own travel costs to DC for the national competition.

6. Applicable Law: This Challenge is being conducted by SBA pursuant to the America Competes Act (15 U.S.C. 3719) and is subject to all applicable federal laws and regulations. By participating in this Challenge, each contestant gives its full and unconditional agreement to the Official Rules and the related administrative decisions described in this notice, which are final and binding in all matters related to the Challenge. A contestant's eligibility for a prize award is contingent upon their fulfilling all requirements identified in this notice. Publication of this notice is not an obligation of funds on the part of SBA. SBA intends to fund all of the prizes through private sector sources. The private sector source is liable to the winners for payment of the prize. SBA, however, will coordinate with the private sector source regarding instructions for award of the prize purse. SBA reserves the right to modify or cancel this Challenge, in whole or in part, at any time prior to the award of prizes.

7. Conflicts of Interest: No individual acting as a judge at any stage of this Challenge may have personal or financial interests in, or be an employee, officer, director, or agent of any Contestant or have a familial or financial relationship with a contestant.

8. Intellectual Property Rights: All entries submitted in response to this Challenge will remain the sole intellectual property of the individuals or organizations that developed them. By registering and entering a submission, each contestant represents and warrants that it is the sole author and copyright owner of the submission, and that the submission is an original work of the contestant, or if the submission is a work based on an existing application, that the contestant has acquired sufficient rights to use and to authorize others to use the submission, and that the submission does not infringe upon any copyright or upon any other third party rights of which the contestant is aware.

9. Publicity Rights: By registering and entering a submission, each contestant consents to SBA's and its agents' use, in perpetuity, of its name, likeness, photograph, voice, opinions, and/or hometown and state information for promotional or informational purposes through any form of media, worldwide, without further payment or consideration.

10. Liability and Insurance Requirements: By registering and entering a submission, each contestant agrees to assume any and all risks and waive claims against the Federal Government and its related entities, except in the case of willful misconduct, for any injury, death, damage, or loss of property, revenue, or profits, whether direct, indirect, or consequential, arising from their participation in this Challenge, whether the injury, death, damage, or loss arises through negligence or otherwise. By registering and entering a submission, each contestant further represents and warrants that it possesses sufficient liability insurance or financial resources to cover claims by a third party for death, bodily injury, or property damage or loss resulting from any activity it carries out in connection with its participation in this Challenge, or claims by the Federal Government for damage or loss to Government property resulting from such an activity. Contest winners should be prepared to demonstrate proof of insurance or financial responsibility in the event SBA deems it necessary.

11. Record Retention and Disclosure: All nomination packages and related materials provided to SBA in the semi-final and final rounds of the Challenge automatically become SBA records and cannot be returned. Contestants should identify any confidential commercial information contained in their entries at the time of their submission to the local Host Organization. SBA will notify contestants of any Freedom of Information Act requests the Agency receives related to their submissions in accordance with 13 CFR part 102.

Award Approving Official: Erin Andrew, Assistant Administrator, Office of Women's Business Ownership, U.S. Small Business Administration, 409 Third Street SW., Washington, DC 20416.

Dated: February 6, 2015.
Erin Andrew,
Assistant Administrator, Office of Women's Business Ownership.

[FR Doc. 2015-03013 Filed 2-12-15; 8:45 a.m.]

BILLING CODE 8025-01-P